DEPARTMENT OF HEALTH AND HUMAN SERVICES

National Institutes of Health

Center for Scientific Review; Amended Notice of Meeting

Notice is hereby given of a change in the meeting of the Center for Scientific Review Special Emphasis Panel, March 14, 2005, 8 p.m. to March 15, 2005, 5 p.m., Hyatt Regency Bethesda, One Bethesda Metro Center, 7400 Wisconsin Avenue, Bethesda, MD, 20814 which was published in the Federal Register on February 22, 2005, 70 FR 8597-8599.

The starting time of the meeting on March 14, 2005 has been changed to 8 a.m. until adjournment. The meeting dates and location remain the same. The meeting is closed to the public.

Dated: March 10, 2005.
LaVerne Y. Stringfield,
Director, Office of Federal Advisory Committee Policy.

[FR Doc. 05-5164 Filed 3-15-05; 8:45 am]

BILLING CODE 4140-01-M